DEPARTMENT OF LABOR

Employment and Training Administration

Workforce Information Advisory Council Meeting; Correction

AGENCY: Employment and Training Administration, Labor.

ACTION: Meeting; correction.

SUMMARY: The Employment and Training Administration, Labor, published a document in the Federal Register of December 16, 2021, regarding the February meeting of the Workforce Information Advisory Council (WIAC or Advisory Council). The meeting date has since changed.

FOR FURTHER INFORMATION CONTACT: Steven Rietzke, Chief, Division of National Programs, Tools, and Technical Assistance, Employment and Training Administration, U.S. Department of Labor, Room C-4510, 200 Constitution Ave. NW, Washington, DC 20210; Telephone: 202-693-3912; Email: WIAC@dol.gov. Mr. Rietzke is the WIAC Designated Federal Officer.

SUPPLEMENTARY INFORMATION:

Correction

In the Federal Register of December 16, 2021, in FR Doc #2021-27189, on page 71525, in the third column, correct the Dates caption to read:

DATES: The meeting will take place February 3, 2022. Each meeting will begin at 12:00 p.m. EST and conclude at approximately 4:00 p.m. EST. Public statements and requests for special accommodations or to address the Advisory Council must be received by February 1, 2022, for the February 3, 2022, meeting.

Angela Hanks,
Acting Assistant Secretary for Employment and Training Administration.

[FR Doc. 2022-01025 Filed 1-19-22; 8:45 am]

BILLING CODE 4510-FN-P